DEPARTMENT OF COMMERCE

National Telecommunications and Information Administration

[Docket No. 000208032-0032-01]

Public Meeting, Request for Comment on Rural and Small Market Access to Local Television Broadcast Signals

AGENCY: National Telecommunications and Information Administration, Department of Commerce.

ACTION: Notice of public meeting; Request for public comment.

SUMMARY: The Assistant Secretary for Communications and Information and Administrator of the National Telecommunications and Information Administration (NTIA), Gregory L. Rohde, will host a roundtable discussion open to the public that will explore rural and small market access to local television broadcast signals (Rural TV Roundtable). NTIA also requests public comment on the ways to ensure that television viewers in rural regions, small markets, and other unserved areas of the United States can receive greater access to local programming through new technologies. New technological innovations are providing unprecedented opportunities to expand the reach of broadcast programming to America's rural regions, small markets, and other unserved areas. While some viewers in rural and small markets and other unserved areas have been able to receive broadcast network programming via cable and satellite, these programming signals often originate hundreds or even thousands of miles away, and do not provide these communities with local programming. This notice, through a series of questions, requests public comment on issues relating to the means by which access to local television can be made available to television viewers in small markets, rural communities and other unserved areas.

DATES: The Rural TV Roundtable will be held from 9:30-11:30 a.m. on March 2, 2000. Written comments must be filed on or before April 14, 2000. Written reply comments must be filed on or before May 15, 2000.

ADDRESSES: The Rural TV Roundtable will be held from 9:30-11:30 a.m. on March 2, 2000, at the U.S. Department of Commerce, Room 4830, 1401 Constitution Avenue NW, Washington, DC 20230. The meeting will be open to the public. For current information on the roundtable, please see NTIA's website at http://www.ntia.doc.gov/ntiahome/ruraltvroundtable/.

The Department invites the public to submit written comments in paper or electronic form. Comments may be mailed to Robert Krinsky, Office of Policy Analysis and Development, National Telecommunications and Information Administration (NTIA), U.S. Department of Commerce, Room 4725, 1401 Constitution Avenue, N.W., Washington, DC 20230. In the alternative, comments may be submitted in electronic form to the following electronic mail address: <ruraltv@ntia.doc.gov>.

Submission of Documents

Written Comments

Paper submissions should include three paper copies and a version on diskette in PDF, ASCII, Word Perfect (please specify version) or Microsoft Word (please specific version) format. Diskettes should be labeled with the name of the party, and the name and version of the word processing program used to create the document. Comments and reply comments submitted via email to ruraltv@ntia.doc.gov should also be submitted in the formats specified above.

All comments and reply comments should be captioned “Rural and Small Market Access to Local Television Broadcast Signals—Comment [or Reply Comment], Docket No. 000208032-0032-01.” Comments and reply comments should be numbered and organized in response to the questions set forth in this Notice.

Comments and reply comments received will be posted on the NTIA web site at http://www.ntia.doc.gov.

FOR FURTHER INFORMATION CONTACT: Robert Krinsky, Office of Policy Analysis and Development, National Telecommunications and Information Administration; telephone (202) 482-1880; or electronic mail <rkrinsky@ntia.doc.gov>.

Media enquiries should be directed to the Office of Public Affairs, National Telecommunications and Information Administration, at (202) 482-7002.

SUPPLEMENTARY INFORMATION:

Background

Changes in the copyright law brought about by the enactment of the Satellite Home Viewer Improvement Act of 1999 (SHVIA) have provided an opportunity for satellite services to deliver local broadcast signals into local markets. Early reports, however, indicate that so-called “local-into-local” service will be offered only in relatively large markets and not available to viewers in rural and small communities. The purpose of this NTIA request for public comment is to explore whether there are other ways to ensure that viewers in these underserved communities can receive the benefit of access to local programming through new technologies.

Last year Congress examined one proposal, a new loan guarantee program, as a means of promoting the delivery of local broadcast signals in rural and small markets. As a complement to Congressional efforts, NTIA has undertaken this request for public comment on the viability of any means of providing local broadcast television service to rural regions, small markets, and other unserved areas, including any legal, economic, or technological impediments. NTIA will also conduct a public meeting that will feature a roundtable discussion of these issues.

Questions for Public Comment

Interested parties are requested to submit written comments on any issue of fact, law, or policy that may inform the U.S. Department of Commerce on rural and small market access to local television broadcast signals. Specifically, comment is requested on the questions set forth below. These questions are designed to assist the public, however, and should not be construed as a limitation on the issues on which public comment may be submitted. Comments should cite the number of the question(s) addressed. Please provide copies of any studies, research, or other empirical data referenced in the comments.

1. Is it technologically feasible today to deliver local-into-local broadcast service to rural regions, small markets, and other unserved areas? This might include comments on satellite, enhancements to terrestrial digital television, wireless cable, video streaming, wireless packet data, and other technological means.

2. What are the trade-offs between the technology options?

3. Under what circumstances is the use of one technology more appropriate than another?

4. Should multiple technologies be used to accomplish the delivery of local television service to rural regions, small markets, and other unserved areas?

5. What are the economic impediments, if any, to the use of any of the technologies that might be used to facilitate local television service to rural regions, small markets, and other unserved areas?

6. What are the legal impediments, if any, to the use of any of the technologies that might be used to facilitate local television service to rural regions, small markets, and other unserved areas?

7. What legal measures, if any, should be taken to foster the delivery of local television service to rural regions, small markets, and other unserved areas?

8. What economic and technological policy measures, if any, should be taken to foster the delivery of local television service to rural regions, small markets, and other unserved areas?

Public Participation: The Rural TV Roundtable is open to the public on a first-come, first-served basis and physically accessible to people with disabilities. To facilitate entry into the Department of Commerce building, please have a photo identification available and/or a U.S. Government building pass if applicable. Any member of the public wishing to attend and requiring special services, such as a sign language interpretation or other ancillary aids, should contact Robert Krinsky, Office of Policy Analysis and Development, U.S. Department of Commerce, at least five (5) working days prior to the Rural TV Roundtable, at either telephone number (202) 482-1880 or electronic mail at <rkrinsky@ntia.doc.gov>.

Gregory L. Rohde,
Assistant Secretary for Communications and Information.

[FR Doc. 00-3402 Filed 2-11-00; 8:45 am]

BILLING CODE 3510-60-P